DEPARTMENT OF ENERGY

Federal Energy Regulatory Commission

[Docket No. RP04-248-000]

El Paso Natural Gas Company; Notice of Further Extension of Time

April 19, 2004.

On April 16, 2004, UNS Gas, Inc. (UNS Gas) filed a motion for an extension of time for the filing of interventions, comments, and protests in response to the filing made by El Paso Natural Gas Company (El Paso) on April 1, 2004, in the above-docketed proceeding. In its motion, UNS Gas states that due to the length and complexity of El Paso's tariff filing in this docket and in related dockets, more time is needed to prepare and file a response. UNS Gas's motion also states that El Paso has no objection to the request for additional time. Further, the motion also states that the extension request is supported by Arizona Electric Power Cooperative, Inc., Public Service Company of New Mexico, Salt River Project Agricultural improvement and Power District and Texas Gas Service, a division of ONEOK, Inc.

On April 7, 2004, the Commission extended the time to respond to El Paso's filing in this docket to April 20, 2004. Upon consideration, notice is hereby given that an extension of time for the filing of comments, interventions, and protests pertaining to El Paso's April 1, 2004, filing in RP04-248-000 is granted to and including May 3, 2004, as requested by UNS Gas.

Magalie R. Salas,
Secretary.

[FR Doc. E4-932 Filed 4-26-04; 8:45 am]

BILLING CODE 6717-01-P